DEPARTMENT OF COMMERCE

Bureau of Industry and Security

15 CFR Part 744

[Docket No. 240507-0130]

RIN 0694-AJ62

Additions of Entities to the Entity List

AGENCY: Bureau of Industry and Security, Department of Commerce.

ACTION: Final rule.

SUMMARY: In this final rule, the Bureau of Industry and Security (BIS) amends the Export Administration Regulations (EAR) by adding 37 entities under 37 entries to the Entity List. These entries are listed on the Entity List under the destinations of the People's Republic of China (China) and have been determined by the U.S. Government to be acting contrary to the national security or foreign policy interests of the United States.

DATES: This rule is effective May 9, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730 through 774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. BIS places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add Beijing BDStar Navigation Co., Ltd.; Beijing Ruidakang Technology Co., Ltd.; Beijing Tianhaida Technology Co., Ltd.; Chengdu Day Communication Technology Co., Ltd.; Hexin Xingtong Technology (Beijing) Co., Ltd.; Suzhou Telecom Electric Plant Co., Ltd.; TaiYuan EFT Equipment Manufacturing Co., Ltd.; and Xi'an Hengda Microwave Technology Development Co., Ltd., all under the destination of China, to the Entity List. These entities are being added for their support to the High Altitude Balloon that overflew the United States in February 2023. This activity is contrary to the national security and foreign policy interests of the United States under § 744.11 of the EAR.

The ERC determined to add Beijing Leiki Defense Technology Co., Ltd.; GEOVIS Technology Co., Ltd.; and Zhongke Xingtu Space Technology Co., Ltd., all under the destination of China, to the Entity List for their connections to companies that support China's High Altitude Balloon program. This activity is contrary to the national security and foreign policy interests of the United States under § 744.11 of the EAR.

The ERC determined to add AEE Shenzhen Yidian Aviation Technology Co., Ltd.; Beijing Zhongshang Dingsheng Mechanical and Electrical Equipment Co., Ltd.; Chengdu Zongheng Automation Technology Co., Ltd.; and Shenzhen Yidian Technology Co., Ltd., all under the destination of China, to the Entity List. These entities are added for acquiring and attempting to acquire U.S.-origin items, applicable to unmanned aerial vehicles, to be used by Chinese military entities. In addition, AEE Shenzhen Yidian Aviation Technology Co., Ltd., Beijing Zhongshang Dingsheng Mechanical and Electrical Equipment Co., Ltd., and Shenzhen Yidian Technology Co., Ltd. have been involved in the shipment of controlled items to Russia since Russia's invasion of Ukraine in February 2022. This activity is contrary to the national security and foreign policy interests of the United States under § 744.11 of the EAR.

The ERC has determined to add Beijing Academy of Quantum Information Sciences; CETC Chip Technology Co., Ltd.; Ceyear Technologies Co., Ltd.; China Electronics Technology Group Corporation 16th Research Institute; China Electronics Technology Group Corporation 32nd Research Institute; China Electronics Technology Group Corporation 36th Research Institute; China Electronics Technology Group Corporation 41st Research Institute; China Electronics Technology Group Corporation 45th Research Institute; China Electronics Technology Group Corporation Electronic Equipment Group Co., Ltd.; Chinese Academy of Sciences, Center for Excellence in Quantum Information and Quantum Physics; Chinese Academy of Sciences, Institute of Physics; Chinese Academy of Sciences, Key Laboratory for Quantum Information; Chinese Academy of Sciences' Shanghai Institute of Microsystem and Information Technology; CSIC Pride (Nanjing) Cryogenic Technology Co., Ltd.; Hefei National Laboratory for Quantum Information Science; Jinan Institute of Quantum Technology; Origin Quantum Computing Technology (Hefei) Co., Ltd.; Quantum Science and Technology Yangtze River Delta Industrial Innovation Center; Shanghai Center for Quantum Science Research; Shenzhen Institute of Quantum Science and Engineering; United Microelectronics Center Co., Ltd.; and University of Science and Technology of China to the Entity List, all under the destination of China. These entities are added for acquiring and attempting to acquire U.S.-origin items in support of advancing China's quantum technology capabilities, which has serious ramifications for U.S. national security given the military applications of quantum technologies. Outside of advancing China's quantum technology capabilities, China Electronics Technology Group Corporation Electronic Equipment Group Co., Ltd. and the University of Science and Technology of China are also involved in advancing China's nuclear program development. In addition, CSIC Pride (Nanjing) Cryogenic Technology Co., Ltd.; China Electronics Technology Group Corporation 45th Research Institute; and Ceyear Technologies Co., Ltd. have been involved in the shipment of controlled items to Russia since Russia's invasion of Ukraine in February 2022. These activities are contrary to the national security and foreign policy interests of the United States under § 744.11 of the EAR.

For the reasons described above, this final rule adds the following 37 entities under 37 entries to the Entity List and includes, where appropriate, aliases:

China

• AEE Shenzhen Yidian Aviation Technology Co., Ltd.,

• Beijing Academy of Quantum Information Sciences,

• Beijing BDStar Navigation Co., Ltd,

• Beijing Leike Defense Technology Co., Ltd.,

• Beijing Ruidakang Technology Co., Ltd.,

• Beijing Tianhaida Technology Co., Ltd.,

• Beijing Zhongshang Dingsheng Mechanical and Electrical Equipment Co., Ltd.,

• CETC Chip Technology Co., Ltd.,

• Ceyear Technologies Co., Ltd.,

• Chengdu Day Communication Technology Co., Ltd.,

• Chengdu Zongheng Automation Technology Co., Ltd.,

• China Electronics Technology Group Corporation 16th Research Institute,

• China Electronics Technology Group Corporation 32nd Research Institute,

• China Electronics Technology Group Corporation 36th Research Institute,

• China Electronics Technology Group Corporation 41st Research Institute,

• China Electronics Technology Group Corporation 45th Research Institute,

• China Electronics Technology Group Corporation Electronic Equipment Group Co., Ltd.,

• Chinese Academy of Science, Center for Excellence in Quantum Information and Quantum Physics,

• Chinese Academy of Sciences, Institute of Physics,

• Chinese Academy of Sciences, Key Laboratory for Quantum Information,

• Chinese Academy of Sciences' Shanghai Institute of Microsystem and Information Technology,

• CSIC Pride (Nanjing) Cryogenic Technology Co., Ltd.,

• GEOVIS Technology Co., Ltd.,

• Hefei National Laboratory for Quantum Information Science,

• Hexin Xingtong Technology (Beijing) Co., Ltd.,

• Jinan Institute of Quantum Technology,

• Origin Quantum Computing Technology (Hefei) Co., Ltd.,

• Quantum Science and Technology Yangtze River Delta Industrial Innovation Center,

• Shanghai Center for Quantum Science Research,

• Shenzhen Institute of Quantum Science and Engineering,

• Shenzhen Yidian Technology Co., Ltd.,

• Suzhou Telecom Electric Plant Co., Ltd.,

• TaiYuan EFT Equipment Manufacturing Co., Ltd.,

• United Microelectronics Center Co., Ltd.,

• University of Science and Technology of China,

• Xi'an Hengda Microwave Technology Development Co., Ltd., and

• Zhongke Xingtu Space Technology Co., Ltd.

Savings Clause

For the changes being made in this final rule, shipments of items removed from eligibility for a License Exception or export, reexport, or transfer (in-country) without a license (NLR) as a transfer (in-country), on May 9, 2024, pursuant to actual orders for export, reexport, or transfer (in-country) to or within a foreign destination, may proceed to that destination under the previous eligibility for a License Exception or export, reexport, or transfer (in-country) without a license (NLR) before June 10, 2024. Any such items not actually exported, reexported, or transferred (in-country) before midnight, on June 10, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866, as amended by Executive Order 14094.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730 through 774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 8, 2022, 87 FR 68015, 3 CFR, 2022 Comp., p. 563; Notice of September 7, 2023, 88 FR 62439 (September 11, 2023).

2. Supplement no. 4 to part 744 is amended under CHINA, PEOPLE'S REPUBLIC OF by adding, in alphabetical order, entries for “AEE Shenzhen Yidian Aviation Technology Co., Ltd.;” “Beijing Academy of Quantum Information Sciences;” “Beijing BDStar Navigation Co., Ltd;” “Beijing Leike Defense Technology Co., Ltd.;” “Beijing Ruidakang Technology Co., Ltd.;” “Beijing Tianhaida Technology Co., Ltd.;” “Beijing Zhongshang Dingsheng Mechanical and Electrical Equipment Co., Ltd.;” “CETC Chip Technology Co., Ltd.;” “Ceyear Technologies Co., Ltd.;” “Chengdu Day Communication Technology Co., Ltd.;” “Chengdu Zongheng Automation Technology Co., Ltd.;” “China Electronics Technology Group Corporation 16th Research Institute;” “China Electronics Technology Group Corporation 32nd Research Institute;” “China Electronics Technology Group Corporation 36th Research Institute;” “China Electronics Technology Group Corporation 41st Research Institute;” “China Electronics Technology Group Corporation 45th Research Institute;” “China Electronics Technology Group Corporation Electronic Equipment Group Co., Ltd.;” “Chinese Academy of Science, Center for Excellence in Quantum Information and Quantum Physics;” “Chinese Academy of Sciences, Institute of Physics;” “Chinese Academy of Sciences, Key Laboratory for Quantum Information;” “Chinese Academy of Sciences' Shanghai Institute of Microsystem and Information Technology;” “CSIC Pride (Nanjing) Cryogenic Technology Co., Ltd.;” “GEOVIS Technology Co., Ltd.;” “Hefei National Laboratory for Quantum Information Science;” “Hexin Xingtong Technology (Beijing) Co., Ltd.;” “Jinan Institute of Quantum Technology;” “Origin Quantum Computing Technology (Hefei) Co., Ltd.;” “Quantum Science and Technology Yangtze River Delta Industrial Innovation Center;” “Shanghai Center for Quantum Science Research;” “Shenzhen Institute of Quantum Science and Engineering;” “Shenzhen Yidian Technology Co., Ltd.;” “Suzhou Telecom Electric Plant Co., Ltd.;” “TaiYuan EFT Equipment Manufacturing Co., Ltd.;” “United Microelectronics Center Co., Ltd.;” “University of Science and Technology of China;” “Xi'an Hengda Microwave Technology Development Co., Ltd.;” and “Zhongke Xingtu Space Technology Co., Ltd.” to read as follows:

Supplement No. 4 to Part 744—Entity List

* * * * *

Country | Entity | License requirement | License review policy | Federal Register citation
* * * * * * *
CHINA, PEOPLE'S REPUBLIC OF | * * * * * *
| AEE Shenzhen Yidian Aviation Technology Co., Ltd., a.k.a., the following two aliases: —Shenzhen AEE Aviation Technology Co., Ltd.; and —Shenzhen One Electric Aviation Technology Co., Ltd. | For all items subject to the EAR. (See § 744.11 of the EAR) | Presumption of denial | 89 FR [INSERT FR PAGE NUMBER May 14, 2024].
| Floor 18, Building A, Shenzhen International Innovation Center (Futian Technology Plaza), No. 1006 Shennan Avenue, Xintian Community, Huafu Street, Futian District, Shenzhen, China; and 3rd Floor, Building 3, Wanda Industrial Park, West Side of Songbai Highway, Tangtou Community, Shiyan Street, Baoan District, Shenzhen, China.
| * * * * * *
| Beijing Academy of Quantum Information Sciences, a.k.a., the following three aliases: —BAQIS; —Beijing Institute of Quantum Information Science; and —Beijing Quantum Institute. | For all items subject to the EAR. (See § 744.11 of the EAR) | Presumption of denial | 89 FR [INSERT FR PAGE NUMBER May 14, 2024].
| Building 3, West District, No. 10 Northwest Wangdong Road, Haidian District, Beijing, China; and Building A, International and Regional Collaborative Innovation Center, Zhongguancun Software Park Phase II, Haidian District, Beijing, China.
| * * * * * *
| Beijing BDStar Navigation Co., Ltd. a.k.a. the following one alias: —Beijing Beidou Star Navigation Technology Co., Ltd. | For all items subject to the EAR. (See § 744.11 of the EAR) | Presumption of denial | 89 FR [INSERT FR PAGE NUMBER May 14, 2024].
| No. 7 Fengxian East Road, Haidian District, Beijing, China; and Second Floor, South Building, Beidou Star Building, No. 7 Fengxian East Road, Haidian District, Beijing, China; and C1, 36 West Ring Road, Beijing, China.
| * * * * * *
| Beijing Leike Defense Technology Co., Ltd., a.k.a., the following two aliases: —Rayco Defense, and —Reco Defense. | For all items subject to the EAR. (See § 744.11 of the EAR) | Presumption of denial | 89 FR [INSERT FR PAGE NUMBER May 14, 2024].
| Floor 6, Building 5, Yard No. 2, West Third Ring North Road, Haidian District, Beijing, China; and South of Jianhua Road, Jiandong Village, Lijia Town, Wujin District, Changzhou, Jiangsu, China; and 3rd Floor, Building 5, Lu Xun Cultural and Creative Park, No. 6 Yuanda South Street, Haidian District, Beijing, China.
| * * * * * *
| Beijing Ruidakang Technology Co., Ltd., a.k.a., the following two aliases: —Beijing Ruida Kang Technology Co., Ltd.; and —RuiDaKangDP. | For all items subject to the EAR. (See § 744.11 of the EAR) | Presumption of denial | 89 FR [INSERT FR PAGE NUMBER May 14, 2024].
| Room 301, 3rd Floor, Comprehensive Building, East Courtyard, Houtun Village, Xiaoying Road, Qinghe, Haidian District, Beijing, China.
| * * * * * *
| Beijing Tianhaida Technology Co., Ltd. No. 9 Fengde East Road, Yongfeng Industrial Base, Haidian District, Beijing, China; and Room 4038, 4th Floor, Building 2, Yard 9, Fengde East Road, Haidian District, Beijing, China; and Room 4034, Floor 4, Building 2, Yard 9, Fengde East Road, Haidian District, Beijing, China.; and No. 5011, Commerce, Floor 5, Building A10, Runqianqiujiayuan, Haidian District, Beijing, 100039, China; and Floor 4-5, Building 2, No. 9, Fengde East Road, Yongfeng Industrial Base, Haidian District, Beijing, China. | For all items subject to the EAR. (See § 744.11 of the EAR) | Presumption of denial | 89 FR [INSERT FR PAGE NUMBER May 14, 2024].
| * * * * * *
| Beijing Zhongshang Dingsheng Mechanical and Electrical Equipment Co., Ltd., a.k.a., the following four aliases: —China Optics Best Technology; —CoBTec Ltd.; —Beijing CBT Optics Equipment Co., Ltd.; and —China Business Dingsheng. | For all items subject to the EAR. (See § 744.11 of the EAR) | Presumption of denial | 89 FR [INSERT FR PAGE NUMBER May 14, 2024].
| No. 1301-02, Floor 13, Building 3, District 1, No. 29 Kechuang 13th Street, Beijing Economic and Technological Development Zone, Beijing, China; and Building 3, No. 1, Tiansha Road, Tangxia Town, Dongguan City, Guangdong Province, China; and Tower 3 of TianTongTai Valley, 13th Street of Kechuang, ETD District, Beijing, 100176, China; and No. 1501-03, Building C, Tiantontai Science and Technology Financial Valley, No. 29, Kechuang 13th Street, Tongzhou District, Beijing, China; and Room 503, Building 8, Timecourt No. 6 Yard Shuguangxili, Beijing, Chaoyang District, China.
| * * * * * *
| CETC Chip Technology Co., Ltd., a.k.a., the following seven aliases: —CETC 24; —Sichuan Solid Circuit Research Institute; —CETC 44; —CETC Chongqing Sound and Optoelectronics Co., Ltd.; —Chongqing Optoelectronics Technology Research Institute; —CETC 26; and —Dianke Chip Group. | For all items subject to the EAR. (See § 744.11 of the EAR) | Presumption of denial | 89 FR [INSERT FR PAGE NUMBER May 14, 2024].
| No. 14, Nanping Huayuan Road, Economic and Technological Development Zone, Chongqing, China; and No. 5-12 Yuhan Road, Shuitu Hi-Tech Industrial Zone, Chongqing, China; and No. 23, Xiyong Avenue, Shapingba District, Chongqing, China; and Sichuan Institute of Piezoelec & Acousto-Optic Technology 14#, Chongqing, China; and Room 301, No. 3, Lane 5005, Shenjiang Road, China.
| * * * * * *
| Ceyear Technologies Co., Ltd., a.k.a., the following five aliases: —CETC Instrument Co., Ltd.; —CETC Ceyear Technologies Co., Ltd.; and —Zhongdianke Ceyear Technology; —China Electronics Technology Instruments Co., Ltd; and —CETI. | For all items subject to the EAR. (See § 744.11 of the EAR) | Presumption of denial | 89 FR [INSERT FR PAGE NUMBER May 14, 2024].
| No. 98 Xiangjiang Road, Huangdao District, Qingdao, Shandong, China; and Room 606, Floor 6, Building 16, No. 23, Shijingshan Road, Shijingshan District, Beijing, China.
| * * * * * *
| Chengdu Day Communication Technology Co., Ltd., a.k.a., the following one alias: —Chengdu Huari Communication Technology Co., Ltd. | For all items subject to the EAR. (See § 744.11 of the EAR) | Presumption of denial | 89 FR [INSERT FR PAGE NUMBER May 14, 2024].
| No. 130, Wuxing 4th Road, Wuhou District, Chengdu, Sichuan, China; and No. 6 East Sect. 3 Wuke Road, Chengdu, China.
| * * * * * *
| Chengdu Zongheng Automation Technology Co., Ltd., a.k.a., the following six aliases: —JOUAV; —Zongheng Automation Technology Co., Ltd.; —Zongheng Co., Ltd.; —Chengdu JOUAV Automation Tech Co.,Ltd.; —Zongheng Technology; and —Chengdu JOUAV Dapeng Tech Co., Ltd. | For all items subject to the EAR. (See § 744.11 of the EAR) | Presumption of denial | 89 FR [INSERT FR PAGE NUMBER May 14, 2024].
| Floor 11, Area A, Building 3, Jingronghui, No. 200, Tianfu 5th Street, High-Tech Zone, Chengdu, China; and 7th Floor, Area A, Building 6, No. 200, Tianfu 5th Street, Chengdu High-Tech Zone, Pilot Free Trade Zone, Chengdu, China; and Room 801-805, Floor 8, Area A, Building 3, No. 200, Tianfu 5th Street, Chengdu High-Tech Zone, Pilot Free Trade Zone, Chengdu, China; and Room 3a, Area A, Jingrong International Plaza, No. 200, Tianfu 5th Street, Wuhou District, Chengdu, Sichuan Province, China; and Unit 701-702,7/F, Grand Tech Centre, No. 8 On Ping Street, Shatin, Hong Kong; and 6A-7F, Jingrong Intl Plaza, 5th Tianfu St., No. 200 Hi-Tech District, Chengdu City, China; and 3A-8F, Jingrong Innovation Hub No 200, 5th Tianfu St., Chengdu, 610041, China; and Building No. 9, Huafu Avenue, 4th Section, No.777, Chengdu, China.
| * * * * * *
| China Electronics Technology Group Corporation 16th Research Institute, a.k.a., the following two aliases: —CETC 16; and —Hefei Institute of Low-Temperature Electronics. | For all items subject to the EAR. (See § 744.11 of the EAR) | Presumption of denial | 89 FR [INSERT FR PAGE NUMBER May 14, 2024].
| No. 439 Suixi Road, Luyang District, Hefei China; and No. 658, Wangjiang West Road, Hefei, China.
| * * * * * *
| China Electronics Technology Group Corporation 32nd Research Institute, a.k.a., the following three aliases: —CETC 32; —CETC Digital Technology (Group) Co., Ltd.; and —East China Institute of Computing Technology | For all items subject to the EAR. (See § 744.11 of the EAR) | Presumption of denial | 89 FR [INSERT FR PAGE NUMBER May 14, 2024].
| No. 63 Chengliu Highway, Jiading District, Shanghai, China; and No. 1485, Jialuo Road, Jiading District, Shanghai, China; and Room 812, Bank of East Asia No. 66 Huayuan Shiqiao Road, Pudong, Shanghai, China; and Room 220, Second Floor, 101, 1st to 3rd floors, Building 5, No. 7 Rongda Road, Chaoyang District, Beijing, China.
| China Electronics Technology Group Corporation 36th Research Institute, a.k.a., the following three aliases: —CETC 36; —CTRONICS Technology Group; and —Jiangnan Electronic Communications Research Institute (JNECR). | For all items subject to the EAR. (See § 744.11 of the EAR) | Presumption of denial | 89 FR [INSERT FR PAGE NUMBER May 14, 2024].
| No. 387, Hongxing Road, Jiaxing, China; and Box 9, Jiaxing, China.
| * * * * * *
| China Electronics Technology Group Corporation 41st Research Institute, a.k.a., the following two aliases: —CETC 41; and —East China Institute of Electronic Measuring Instruments. | For all items subject to the EAR. (See § 744.11 of the EAR) | Presumption of denial | 89 FR [INSERT FR PAGE NUMBER May 14, 2024].
| No. 726, Changzheng Road, Bengbu, China; and No. 98, Xiangjiang Road, Huangdao District, Qingdao, China; and No. 800, Changsheng Road, Bengbu, China.
| * * * * * *
| China Electronics Technology Group Corporation 45th Research Institute, a.k.a., the following three aliases: —CETC 45; —Beijing Semiconductor Special Equipment Research Institute; and —Beijing CETC Electronic Equipment Co., Ltd. | For all items subject to the EAR. (See § 744.11 of the EAR) | Presumption of denial | 89 FR [INSERT FR PAGE NUMBER May 14, 2024].
| No. 1, Taihe 3rd Street, Tongzhou District, Beijing, China.
| * * * * * *
| China Electronics Technology Group Corporation Electronic Equipment Group Co., Ltd., a.k.a., the following three aliases: —CETC Equipment Subgroup; —Dianke Equipment; and —CETC-E. | For all items subject to the EAR. (See § 744.11 of the EAR) | Presumption of denial | 89 FR [INSERT FR PAGE NUMBER May 14, 2024].
| Room 2001, Floor 20, Building B, Building 1, No. 19 Ronghua Middle Road, Beijing Economic and Technological Development Zone, Beijing, China; and 7th Floor, West Annex Building, Building 1, Nord Center, No. 128 South Fourth Ring West Road, Fengtai District, Beijing, China; and 7/F, West Wing of No.1 Noble Center, 128 West Road of South 4th Ring Road., Fengtai District, Beijing, China.
| * * * * * *
| Chinese Academy of Science, Center for Excellence in Quantum Information and Quantum Physics, a.k.a., the following three aliases: —Collaborative Innovation Center for Frontiers of Quantum Information and Quantum Technology; —Quantum Innovation Institute; and —Quantum 2011. | For all items subject to the EAR. (See § 744.11 of the EAR) | Presumption of denial | 89 FR [INSERT FR PAGE NUMBER May 14, 2024].
| No. 96, Jinzhai Road, Hefei, China; and Wangjiang West Road, Shushan District, Hefei, China; and No. 62, Taihu Road, Baohe District, Hefei, China.
| * * * * * *
| Chinese Academy of Sciences, Institute of Physics, a.k.a., the following one alias: —IOPCAS. | For all items subject to the EAR. (See § 744.11 of the EAR) | Presumption of denial | 89 FR [INSERT FR PAGE NUMBER May 14, 2024].
| No. 8, Zhongguancun South Third Street, Haidian District, Beijing, China; and No. 8, Zhongguancun South 3rd Street, between the 3rd and 4th rings of Zhongguancun Street, Haidian District, Beijing, China; and No. 5, Xizai Road, Huairou District, Beijing, China.
| Chinese Academy of Sciences, Key Laboratory for Quantum Information, a.k.a., the following one alias: —KLQI. | For all items subject to the EAR. (See § 744.11 of the EAR) | Presumption of denial | 89 FR [INSERT FR PAGE NUMBER May 14, 2024].
| East District, University of Science and Technology of China, No. 96, Jinzhai Road, Baohe District, Hefei, China.
| Chinese Academy of Sciences' Shanghai Institute of Microsystem and Information Technology, a.k.a., the following three aliases: —SIMIT; —Shanghai Institute of Metallurgy; and —SIMIT-CAS. | For all items subject to the EAR. (See § 744.11 of the EAR) | Presumption of denial | 89 FR [INSERT FR PAGE NUMBER May 14, 2024].
| Building 8, No. 865, Changning Road, Changning District, Shanghai, China; and Building A, No. 1455, Pingcheng Road, Jiading District, Shanghai, China; and Jiading Park, No. 235, Chengbei Road, China; and No. 800, Yishan Road, Xuhui District, Shanghai, China; and Room 613, Building 8, No 865 Changning Road, Shanghai, China; and Room 604, Xinweijiayuan, 1455 Pincheng Road, Shanghai, China.
| * * * * * *
| CSIC Pride (Nanjing) Cryogenic Technology Co., Ltd., a.k.a., the following three aliases: —Pride Cryogenics; —Easycool; and —CSIC Pengli (Nanjing) Ultra-low Temperature Technology Co., Ltd. | For all items subject to the EAR. (See § 744.11 of the EAR) | Presumption of denial | 89 FR [INSERT FR PAGE NUMBER May 14, 2024].
| No. 32 Changqing Street, Jiangning Development Zone, Nanjing, China.
| * * * * * *
| GEOVIS Technology Co., Ltd., a.k.a., the following two aliases: —Zhongke Xingtu Co., Ltd.; and —Zhongke Star Chart Co., Ltd. | For all items subject to the EAR. (See § 744.11 of the EAR) | Presumption of denial | 89 FR [INSERT FR PAGE NUMBER May 14, 2024].
| 1A-4 Xingtu Building, National Geographic Information Technology Industrial Park, No. 2 Airport East Road, Airport Economic Core Area, Shunyi District, Beijing, China.; and No. 2, Jichang E. Road, Linkong Jingji Hexin District, Shunyi District Beijing, Beijing, 101399, China.
| * * * * * *
| Hefei National Laboratory for Quantum Information Science, a.k.a., the following one alias: —NLQIS. | For all items subject to the EAR. (See § 744.11 of the EAR) | Presumption of denial | 89 FR [INSERT FR PAGE NUMBER May 14, 2024].
| 5099 Wang Jiang West Road, Shushan District, Hefei, China.
| * * * * * *
| Hexin Xingtong Technology (Beijing) Co., Ltd., a.k.a., the following two aliases: —Unicorecomm, and —Hexinxingtong Technology (Beijing) Co., Ltd. | For all items subject to the EAR. (See § 744.11 of the EAR) | Presumption of denial | 89 FR [INSERT FR PAGE NUMBER May 14, 2024].
| 3rd Floor, Beidouxingtong Building, No. 7 Fengxian East Road, Haidian District, Beijing, China; and 3F Building 8, No. 912 Bi Bo Road, Shanghai, China.
| * * * * * *
| Jinan Institute of Quantum Technology, a.k.a., the following one alias: —JIQT. | For all items subject to the EAR. (See § 744.11 of the EAR) | Presumption of denial | 89 FR [INSERT FR PAGE NUMBER May 14, 2024].
| No. 747, Shunhua Road, High-tech Zone, Jinan, Shandong, China; and Room 508-509, Area A, Block B, Qilu Software Park Building, Jinan, China.
| * * * * * *
| Origin Quantum Computing Technology (Hefei) Co., Ltd., a.k.a., the following four aliases: —Origin Quantum; —Origin QC; —Hefei Origin Quantum Computing Technology Co., Ltd.; and —Hefei Benyuan Quantum Computing Technology Co., Ltd. | For all items subject to the EAR. (See § 744.11 of the EAR) | Presumption of denial | 89 FR [INSERT FR PAGE NUMBER May 14, 2024].
| Building D8, Zhongan Chuanggu Science and Technology Park, No. 900, Wangjiang West Road, Shushan District, Hefei, China; and 6th Floor, Building E2, Phase II, Innovation Industrial Park, No. 2800, Chuangxin Avenue, High-tech Zone, Hefei, China; and No. 104, Building 21, Maker Mansion, No. 2039, South Section of Tianfu Ave., Tianfu New District, Chengdu, China; and Room 101, Floor 2-6, Building 5, East District, No. 10 Northwest Wangdong Road, Haidian District, Beijing, China.
| * * * * * *
| Quantum Science and Technology Yangtze River Delta Industrial Innovation Center, a.k.a., the following one alias: —Suzhou Institute of Quantum Science and Technology of China Academy of Electronics Sciences. | For all items subject to the EAR. (See § 744.11 of the EAR) | Presumption of denial | 89 FR [INSERT FR PAGE NUMBER May 14, 2024].
| Room 101, Block 9C, Start-Up Zone, Yangtze River Delta International R&D Community, No. 286, Qinglonggang Road, Xiangcheng District, Suzhou, China.
| * * * * * *
| Shanghai Center for Quantum Science Research, a.k.a., the following three aliases: —SRCQS; —Shanghai Institute for Advanced Studies Center for Quantum Engineering; and —USTC Shanghai. | For all items subject to the EAR. (See § 744.11 of the EAR) | Presumption of denial | 89 FR [INSERT FR PAGE NUMBER May 14, 2024].
| 99 Xiupu Road, Shanghai, China.
| * * * * * *
| Shenzhen Institute of Quantum Science and Engineering, a.k.a., the following one alias: —SIQSE. | For all items subject to the EAR. (See § 744.11 of the EAR) | Presumption of denial | 89 FR [INSERT FR PAGE NUMBER May 14, 2024].
| No. 1088 Xueyuan Avenue, Nanshan District, Shenzhen, China.
| * * * * * *
| Shenzhen Yidian Technology Co., Ltd., a.k.a., the following three aliases: —Shenzhen AEE Technology Co., Ltd.; —Shenzhen Love Wireless Technology Co., Ltd.; and —Ace Electronics Enterprise. | For all items subject to the EAR. (See § 744.11 of the EAR) | Presumption of denial | 89 FR [INSERT FR PAGE NUMBER May 14, 2024].
| 10B-1, Block B, Modern Window Building, Huaqiang North Road, Futian District, Shenzhen, China; and AEE Hi-Tech Park Songbai Road, Shiyan Town, Shenzhen, China.
| * * * * * *
| Suzhou Telecom Electric Plant Co., Ltd. a.k.a., the following one alias: —Suzhou Telecom Motor Factory Co., Ltd. | For all items subject to the EAR. (See § 744.11 of the EAR) | Presumption of denial | 89 FR [INSERT FR PAGE NUMBER May 14, 2024].
| No. 482, Xujiang Road, Suzhou, Jiangsu, China.
| * * * * * *
| TaiYuan EFT Equipment Manufacturing Co., Ltd., a.k.a., the following two aliases: —Taiyuan Yifu Equipment Manufacturing Co., Ltd.; and —Taiyuan Efort Equipment Manufacturing Co., Ltd. | For all items subject to the EAR. (See § 744.11 of the EAR) | Presumption of denial | 89 FR [INSERT FR PAGE NUMBER May 14, 2024].
| 3rd Floor, University Science and Technology Pioneer Park, Taiyuan High-tech Zone, Taiyuan, Shanxi, China; and 4th Floor, Wanli Technology Office Building, No. 9 Changzhi West Lane, Taiyuan Xuefu Park, Shanxi Comprehensive Reform Demonstration Zone, China.
| * * * * * *
| United Microelectronics Center Co., Ltd., a.k.a., the following two aliases: —CUMEC; and —UMEC. | For all items subject to the EAR. (See § 744.11 of the EAR) | Presumption of denial | 89 FR [INSERT FR PAGE NUMBER May 14, 2024].
| No. 2, No. 28, Xiyuan 1st Road, Shapingba District, Chongqing, China; and No. 20, Xiyuan South Street, Shapingba District, Chongqing, China.
| * * * * * *
| University of Science and Technology of China, a.k.a., the following one alias: —USTC. | For all items subject to the EAR. (See § 744.11 of the EAR) | Presumption of denial | 89 FR [INSERT FR PAGE NUMBER May 14, 2024].
| East Campus, No.96, JinZhai Road, Baohe District, Hefei, China; and West Campus, No. 443, Huangshan Road, Shushan District, Hefei, China; and South Campus, No. 1129 Huizhou Avenue, Baohe District, Hefei, China; and No. 100, Fuxing Road, Shushan District, Hefei, China.
| * * * * * *
| Xi'an Hengda Microwave Technology Development Co., Ltd. | For all items subject to the EAR. (See § 744.11 of the EAR) | Presumption of denial | 89 FR [INSERT FR PAGE NUMBER May 14, 2024].
| No. 485 Feitian Road, Aerospace Base, Xi'an, China, 710100; and Room 2302, Building 4 OuFengYuan, Chang'an South Road, Xian, Shaanxi Province, China.
| * * * * * *
| Zhongke Xingtu Space Technology Co., Ltd., a.k.a., the following one alias: —Zhongke Starmap Space Technology Co., Ltd. | For all items subject to the EAR. (See § 744.11 of the EAR) | Presumption of denial | 89 FR [INSERT FR PAGE NUMBER May 14, 2024].
| Floor 9, Block B, Huihang Plaza, Middle Section of Hangtuo Road, National Civil Aerospace Industry Base, Xi'an, Shaanxi, China.
| * * * * * *
* * * * * * *

* * * * *

Thea D. Rozman Kendler,
Assistant Secretary for Export Administration.

[FR Doc. 2024-10485 Filed 5-9-24; 11:15 am]

BILLING CODE 3510-33-P